ENVIRONMENTAL PROTECTION AGENCY

[FRL-7968-6]

Omega Chemical Superfund Site; Notice of Proposed CERCLA Administrative De Minimis Settlement

AGENCY: Environmental Protection Agency.

ACTION: Notice; request for public comment.

SUMMARY: In accordance with Section 122(i) of the Comprehensive Environmental Response, Compensation, and Liability Act, as amended (CERCLA), 42 U.S.C. 9622(i), notice is hereby given of a proposed administrative settlement for recovery of past response costs concerning the Omega Chemical Site in Whittier, Los Angeles County, California with 171 de minimis settling parties. The settlement is entered into pursuant to Section 122(g) of CERCLA, 42 U.S.C. 9622(g) and it requires the settling parties to pay $10,189,384 to the United States Environmental Protection Agency (EPA). The settlement includes a covenant not to sue the settling parties pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at 75 Hawthorne Street, San Francisco, CA 94105.

DATES: Comments must be submitted on or before October 14, 2005.

ADDRESSES: The proposed settlement is available for public inspection at EPA Region IX, 75 Hawthorne Street, San Francisco, California. A copy of the proposed settlement may be obtained from Thanne Cox, EPA Region IX, 75 Hawthorne Street, ORC-3, San Francisco, CA 94105, telephone number 415-972-3908. Comments should reference the Omega Chemical Superfund Site, Whittier, California and EPA Docket No. 2004-13 and should be addressed to Thanne Cox at the above address.

FOR FURTHER INFORMATION CONTACT: Thanne Cox, Assistant Regional Counsel (ORC-3), Office of Regional Counsel, U.S. EPA Region IX, 75 Hawthorne Street, San Francisco, CA 94105; phone: (415) 972-3908; fax: (415) 947-3570; e-mail: cox.elizabeth@epa.gov.

Dated: September 1, 2005.
Keith Takata,
Director, Superfund Division, U.S. EPA, Region IX.

[FR Doc. 05-18237 Filed 9-13-05; 8:45 am]

BILLING CODE 6560-50-P